DEPARTMENT OF EDUCATION

President's Board of Advisors on Tribal Colleges and Universities; Notice of Meeting

AGENCY: President's Board of Advisors on Tribal Colleges and Universities, Department of Education.

ACTION: Notice of an open meeting.

SUMMARY: This notice sets forth the schedule and agenda of the meeting of the President's Board of Advisors on Tribal Colleges and Universities. This notice also describes the functions of the Board. Notice of this meeting is required by section 10(a)(2) of the Federal Advisory Committee Act and is intended to notify the public of its opportunity to attend.

Dates and Times: Monday, April 10, 2006—8:30 a.m.-5 p.m. Tuesday, April 11, 2006—9 a.m.-2:30 p.m.

ADDRESSES: The Board will meet at the Willard Intercontinental Hotel, 1401 Pennsylvania Avenue, NW., Washington, DC 20004. Phone (202) 628-9100; Fax: (202) 637-7326.

FOR FURTHER INFORMATION CONTACT: Deborah Cavett, Executive Director, White House Initiative on Tribal Colleges and Universities, 1990 K Street, NW., Room 7014, Washington, DC 20006; telephone: (202) 219-7040, fax: 202-219-7086.

SUPPLEMENTARY INFORMATION: The President's Board of Advisors on Tribal Colleges and Universities is established under Executive Order 13270, dated July 2, 2002, and Executive Order 13385 dated September 25, 2005. The Board is established (a) to report to the President annually on the results of the participation of tribal colleges and universities (TCUs) in Federal programs, including recommendations on how to increase the private sector role, including the role of private foundations, in strengthening these institutions, with particular emphasis also given to enhancing institutional planning and development, strengthening fiscal stability and financial management, and improving institutional infrastructure, including the use of technology, to ensure the long-term viability and enhancement of these institutions; (b) to advise the President and the Secretary of Education (Secretary) on the needs of TCUs in the areas of infrastructure, academic programs, and faculty and institutional development; (c) to advise the Secretary in the preparation of a Three-Year Federal plan for assistance to TCUs in increasing their capacity to participate in Federal programs; (d) to provide the President with an annual progress report on enhancing the capacity of TCUs to serve their students; and (e) to develop, in consultation with the Department of Education and other Federal agencies, a private sector strategy to assist TCUs.

Agenda

The purpose of the meeting is to update the Board's Strategic Plan through a review of collaborative efforts and to discuss relevant issues to be addressed in the Board's annual report.

Additional Information

The President's Board on Tribal Colleges and Universities is giving less than 15 days notice due to scheduling difficulties.

Individuals who will need accommodations for a disability in order to attend the meeting (e.g., interpreting services, assistive listening devices, or material in alternative format) should notify Norma Hardie at (202) 219-7040, no later than Monday, April 3, 2006. We will attempt to meet requests for accommodations after this date, but cannot guarantee their availability. The meeting site is accessible to individuals with disabilities.

An opportunity for public comment is available on Tuesday, April 10, 2006, between 1:30 p.m.-2:30 p.m. Those members of the public interested in submitting written comments may do so at the address indicated above by Monday, April 3, 2006.

Records are kept of all Board proceedings and are available for public inspection at the Office of the White House Initiative on Tribal Colleges and Universities, U.S. Department of Education, 1990 K Street, NW., Washington, DC 20006, during the hours of 8 a.m. to 5 p.m.

Dated: March 27, 2006.
Margaret Spellings,
Secretary of Education, U.S. Department of Education.

[FR Doc. 06-3077 Filed 3-29-06; 8:45 am]

BILLING CODE 4000-01-M